DEPARTMENT OF COMMERCE

National Oceanic and Atmospheric Administration

RIN 0648-XG399

Northwest Atlantic Fisheries Organization Consultative Committee Meeting

AGENCY: National Marine Fisheries Service (NMFS), National Oceanic and Atmospheric Administration (NOAA), Commerce.

ACTION: Notice of public meeting.

SUMMARY: NMFS announces a public meeting of the Northwest Atlantic Fisheries Organization Consultative Committee. This meeting will help to ensure that the interests of U.S. stakeholders in the fisheries of the Northwest Atlantic Ocean are adequately represented at the Annual Meeting of the Organization. Northwest Atlantic Fisheries Organization Consultative Committee members and all other interested U.S. stakeholders are invited to attend.

DATES: The meeting will be held August 27, 2018, from 1:30 p.m. to 3:30 p.m. EST.

ADDRESSES: The meeting will be held at National Marine Fisheries Service's Greater Atlantic Regional Fisheries Office, 55 Great Republic Drive, Gloucester, MA 01930. Please notify Shannah Jaburek (see FOR FURTHER INFORMATION CONTACT) by August 22, 2018, if you plan to attend the meeting in person or remotely. The meeting will be accessible by webinar—instructions will be emailed to meeting participants who provide notice.

FOR FURTHER INFORMATION CONTACT: Elizabethann Mencher by email at Elizabethann.Mencher@noaa.gov, or by phone at 301-427-8362; or Shannah Jaburek by email at Shannah.Jaburek@noaa.gov, or by phone at 978-282-8456.

SUPPLEMENTARY INFORMATION: The Northwest Atlantic Fisheries Organization (NAFO) is a regional fisheries management organization that coordinates scientific study and cooperative management of the fisheries resources of the Northwest Atlantic Ocean, excluding salmon, tunas/marlins, whales and sedentary species (e.g., shellfish). NAFO was established in 1979 by the Convention on Future Multilateral Cooperation in the Northwest Atlantic Fisheries. The United States acceded to the Convention in 1995, and has participated actively in NAFO since that time. In 2005, NAFO launched a reform effort to amend the Convention in order bring the Organization more in line with the principles of modern fisheries management. As a result of these efforts, the Amendment to the Convention on Future Multilateral Cooperation in the Northwest Atlantic Fisheries entered into force in May 2017.

NAFO currently has 12 Contracting Parties, including Canada, Cuba, Denmark (in respect of Faroe Islands and Greenland), European Union, France (in respect of St. Pierre and Miquelon), Iceland, Japan, Norway, Republic of Korea, Russian Federation, Ukraine and the United States.

Membership in the NCC is open to representatives from the New England and Mid-Atlantic Fishery Management Councils, the States represented on those Councils, the Atlantic States Marine Fisheries Commission, the fishing industry, the seafood processing industry, and others knowledgeable and experienced in the conservation and management of fisheries in the Northwest Atlantic Ocean. Members shall be appointed to a 2-year term and are eligible for reappointment. The NCC is exempted from the Federal Advisory Committee Act. NCC members are invited to attend all non-executive meetings of the U.S. Commissioners and at such meetings are given an opportunity to examine and to be heard on all proposed programs of study and investigation, reports, recommendations, and regulations of issues relating to the Act and proceedings of NAFO. In addition, NCC members may attend all public meetings of the NAFO Commission and any other meetings to which they are invited.

If you are interested in becoming a member of the NCC, please contact Elizabethann Mencher (see FOR FURTHER INFORMATION CONTACT) for additional details.

The NAFO Annual Meeting will be held September 17-21, 2018, in Tallinn, Estonia. Additional information about the meeting can be found at: https://www.nafo.int/Meetings/AM.

Special Accommodations

The meeting location is physically accessible to people with disabilities. Requests for sign language interpretation or other auxiliary aids should be directed to Shannah Jaburek (see FOR FURTHER INFORMATION CONTACT) by August 22, 2018.

Dated: August 13, 2018.
John Henderschedt,
Director, Office of International Affairs and Seafood Inspection, National Marine Fisheries Service.

[FR Doc. 2018-17684 Filed 8-15-18; 8:45 am]

BILLING CODE 3510-22-P